DEPARTMENT OF COMMERCE

National Oceanic and Atmospheric Administration

50 CFR Part 648

RIN 0648-BJ16

Magnuson-Stevens Fishery Conservation and Management Act Provisions; Fisheries of the Northeastern United States; Amendment 21 to the Atlantic Mackerel, Squid, and Butterfish Fishery Management Plan

AGENCY: National Marine Fisheries Service (NMFS), National Oceanic and Atmospheric Administration (NOAA), Commerce.

ACTION: Announcement of the availability of a proposed fishery management plan amendment; request for comments.

SUMMARY: NMFS announces that the Mid-Atlantic Fishery Management Council has submitted Amendment 21 to the Atlantic Mackerel, Squid, and Butterfish Fishery Management Plan to the Secretary of Commerce for review and approval. We are requesting comments from the public on this amendment. This amendment would designate essential fish habitat; set catch limits for 2020-2022; and implement an annual catch limit, accountability measures, possession limits, permitting and reporting requirements, and other administrative measures for Atlantic chub mackerel caught from Maine through North Carolina. The purpose of this action is to implement measures required by the Magnuson-Stevens Fishery Conservation and Management Act to formally integrate Atlantic chub mackerel as a stock in the fishery under the Atlantic Mackerel, Squid, and Butterfish Fishery Management Plan.

DATES: Comments must be received on or before April 14, 2020.

ADDRESSES: You may submit comments on this document, identified by NOAA-NMFS-2019-0109, by any of the following methods:

• Electronic Submission: Submit all electronic public comments via the Federal e-Rulemaking Portal. Go to www.regulations.gov/#!docketDetail;D=NOAA-NMFS-2019-0109, click the “Comment Now!” icon, complete the required fields, and enter or attach your comments.

• Mail: Submit written comments to Michael Pentony, Regional Administrator, NMFS, Greater Atlantic Regional Fisheries Office, 55 Great Republic Drive, Gloucester, MA 01930. Mark the outside of the envelope, “Comments on Chub Mackerel NOA.”

Instructions: Comments sent by any other method, to any other address or individual, or received after the end of the comment period, may not be considered by NMFS. All comments received are a part of the public record and will generally be posted for public viewing on www.regulations.gov without change. All personal identifying information (e.g., name, address, etc.), confidential business information, or otherwise sensitive information submitted voluntarily by the sender will be publicly accessible. NMFS will accept anonymous comments (enter “N/A” in the required fields if you wish to remain anonymous).

The Mid-Atlantic Council prepared an environmental assessment (EA) for Amendment 21 that describes the proposed action and provides a thorough analysis of the impacts of the proposed measures and other alternatives considered. Copies of Amendment 21, including the EA, the Regulatory Impact Review, and the Regulatory Flexibility Act analysis, are available from: Christopher Moore, Executive Director, Mid-Atlantic Fishery Management Council, Suite 201, 800 State Street, Dover, DE 19901. The EA and associated analysis is accessible via the internet http://www.mafmc.org/supporting-documents.

FOR FURTHER INFORMATION CONTACT: Douglas Christel, Fishery Policy Analyst, 978-281-9141.

SUPPLEMENTARY INFORMATION:

Background

The Mid-Atlantic Fishery Management Council developed temporary measures to regulate Atlantic chub mackerel catch as part of Amendment 18 to the Atlantic Mackerel Squid, and Butterfish Fishery Management Plan (FMP) (August 28, 2017; 82 FR 40721). Those measures were intended to regulate a developing commercial fishery for Atlantic chub mackerel until the Council could formally integrate this species as a stock in the Atlantic Mackerel, Squid, and Butterfish Fishery Management Plan (FMP) through a separate action. Those temporary measures, including an annual landing limit, possession limit, and permitting and reporting requirements, became effective on September 27, 2017, and expire on December 31, 2020. The Council initiated Amendment 21 in December 2016 to implement long-term measures for Atlantic chub mackerel. The purpose of this amendment is to implement measures required by the Magnuson-Stevens Fishery Conservation and Management Act (Magnuson-Stevens Act) to manage Atlantic chub mackerel as a stock in the FMP. Specifically, this action proposes the following measures:

• Atlantic chub mackerel essential fish habitat for all life stages;

• An Atlantic chub mackerel management unit from Maine through North Carolina where management measures would apply;

• A yearly process to set specifications that considers scientific and management uncertainty, Atlantic chub mackerel catch from South Carolina-Florida, and discards;

• 2020-2022 specifications, including a 2,300-mt acceptable biological catch and optimum yield, a 2,261.7-mt annual catch limit for both commercial and recreational catch after deducting an estimate of South Carolina-Florida catch (38.2 mt), a 2,171.2-mt annual catch target (ACT) after deducting a 4 percent management uncertainty buffer, and a 2,040.9-mt total allowable landing limit (TAL) after deducting a 6-percent discard estimate;

• Accountability measures to prevent the ACT from being exceeded, including an 18.1-mt (40,000 lb) possession limit once 90 percent of the TAL is landed, a 4.5-mt (10,000-lb) possession limit once 100 percent of the TAL is landed), and an overage adjustment if the ACT is exceeded;

• A requirement for vessels possessing Atlantic chub mackerel to be issued an Atlantic mackerel, longfin squid, Illex squid, or butterfish permit from the Greater Atlantic Regional Fisheries Office and comply with existing reporting requirements; and

• Corrections to existing regulations to differentiate between Atlantic mackerel and Atlantic chub mackerel measures and ensure consistency with Council intent.

We are soliciting public comments on Amendment 21 to the Atlantic Mackerel, Squid, and Butterfish FMP and its incorporated documents through the end of the comment period specified in the DATES section of this notice of availability (NOA). We will publish a proposed rule in the Federal Register that would implement the amendment's management measures for additional public comment. All comments received by the end of the comment period on the NOA, whether specifically directed to the NOA or the proposed rule, will be considered in the approval/disapproval decision on the amendment. Comments received after the end of the comment period for the NOA will not be considered in the approval/disapproval decision of this action.

Authority: 16 U.S.C. 1801 et seq.

Dated: February 10, 2020.
Karyl K. Brewster-Geisz,
Acting Director, Office of Sustainable Fisheries, National Marine Fisheries Service.

[FR Doc. 2020-02960 Filed 2-13-20; 8:45 am]

BILLING CODE 3510-22-P